DEPARTMENT OF AGRICULTURE

Food Safety and Inspection Service

9 CFR Part 500

Rules of Practice

CFR Correction

This rule is being published by the Office of the Federal Register to correct an editorial or technical error that appeared in the most recent annual revision of the Code of Federal Regulations.

In Title 9 of the Code of Federal Regulations, Part 200 to End, revised as of January 1, 2024, amend section 500.7 by revising paragraph (a)(5) to read as follows:

§ 500.7 Refusal to grant inspection.

(a) * * *

(5) Is unfit to engage in any business requiring inspection as specified in section 401 of the FMIA, section 18(a) of the PPIA, or section 18 of the EPIA.

* * * * *

[FR Doc. 2024-14682 Filed 7-2-24; 8:45 am]

BILLING CODE 0099-10-P